SMALL BUSINESS ADMINISTRATION

Reporting and Recordkeeping Requirements Under Office of Management and Budget Review

AGENCY: U.S. Small Business Administration.

ACTION: 30-Day notice; request for comments.

SUMMARY: The Small Business Administration (SBA) will submit the information collection described below to the Office of Management and Budget (OMB) for review and clearance in accordance with the Paperwork Reduction Act of 1995, as amended, on or after the date of publication of this notice. SBA is publishing this notice to allow all interested members of the public an additional 30 days to provide comments on the collection of information.

DATES: Submit comments on or before March 2, 2026.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number, which are provided below.

FOR FURTHER INFORMATION CONTACT: You may obtain information including a copy of the forms and supporting documents from the Interim Agency Clearance Officer, Shauniece Carter, at (202) 205-6536, or shauniece.carter@sba.gov, or from www.reginfo.gov/public/do/PRAMain.

SUPPLEMENTARY INFORMATION:

Background

Section 1102 of the Coronavirus Aid, Relief, and Economic Security (CARES) Act, Public Law 116-136, authorized SBA to guarantee loans made by banks or other financial institutions under a temporary program titled the “Paycheck Protection Program” (PPP). These loans were available to eligible small businesses, certain non-profit organizations, veterans' organizations, Tribal business concerns, independent contractors, and self-employed individuals adversely impacted by the COVID-19 Emergency. SBA's authority to guarantee PPP loans expired on August 8, 2020. On December 27, 2020, SBA received reauthorization under the Economic Aid Act, Public Law 116-260, to resume guaranteeing PPP loans through March 31, 2021. The Economic Aid Act also allowed certain eligible borrowers that previously received a PPP loan to receive a second draw PPP loan (“Second Draw PPP Loan Program”) and amended certain other PPP statutory provisions. On March 11, 2021, the American Rescue Plan Act, Public Law 117-2, was enacted, amending various PPP statutory provisions. On March 30, 2021, the PPP Extension Act of 2021 was enacted, extending the SBA's PPP program authority through June 30, 2021.

This information collection is used for the Second Draw PPP Loan Program. This approval is set to expire on January 31, 2026. Although SBA's program authority has expired, this information collection is still needed. Therefore, as required by the Paperwork Reduction Act, SBA is publishing this notice as a prerequisite to seeking OMB's approval to use this information collection beyond January 31, 2026.

Summary of Information Collection

Title: Paycheck Protection Loan Program—Second Draw.

OMB Control Number: 3245-0417.

(I) SBA Form 2483-SD—Paycheck Protection Program Second Draw Application

Estimated Number of Respondents: 0.

Estimated Annual Responses: 0.

Estimated Annual Hour Burden: 14,962.

(II) SBA Form 2483-SD-C—Paycheck Protection Program Second Draw Application for Schedule C Filers Using Gross Income

Estimated Number of Respondents: 0.

Estimated Annual Responses: 0.

Estimated Annual Hour Burden: 9,316.

(III) SBA Form 2484-SD—Paycheck Protection Program Second Draw Lender's Application for 7(A) Guaranty

Estimated Number of Respondents: 0.

Estimated Annual Responses: 0.

Estimated Annual Hour Burden: 24,278.

Solicitation of Public Comments

SBA invites the public to submit comments, including specific and detailed suggestions on ways to improve the collection and reduce the burden on respondents. Commenters should also address (i) whether the information collection is necessary for the proper performance of SBA's functions, including whether it has any practical utility; (ii) the accuracy of the estimated burdens; (iii) ways to enhance the quality, utility, and clarity of the information to be collected; and (iv) the use of automated collection techniques or other forms of information technology to minimize the information collection burden on those who are required to respond.

Shauniece Carter,
Interim Agency Clearance Officer.

[FR Doc. 2026-01779 Filed 1-28-26; 8:45 am]

BILLING CODE 8026-09-P